FEDERAL COMMUNICATIONS COMMISSION

47 CFR Part 11

[EB Docket No. 01-66; DA 02-2312]

FCC Certification of Emergency Alert System (EAS) Decoder

AGENCY: Federal Communications Commission.

ACTION: Final rule.

SUMMARY: In this document, the Federal Communications Commission announces that An equipment authorization for an EAS decoder unit has been granted to equipment Manufacturer TFT, Inc. Low Power FM (LPFM) stations and cable systems that serve fewer Than 5,000 subscribers may comply with EAS equipment requirement requirements by Installing an EAS decoder unit, rather than and EAS encoder/decoder unit.

DATES: Effective October 24, 2003.

FOR FURTHER INFORMATION CONTACT: Bonnie Gay at (202) 418-1228.

SUPPLEMENTARY INFORMATION: In a Report and Order released on February 26, 2002, the Commission granted low power FM stations a temporary waiver of the requirement in the EAS rules to install FCC-certified decoders. This Commission action was based upon the fact that, at that time, there were no FCC-certified EAS decoders on the market. The Commission, therefore, amended the EAS rules to exempt low power FM stations from installing FCC-certified EAS decoders until one year after the Commission published in the Federal Register a Public Notice indicating that at least one EAS decoder has been certified. The Commission also amended the EAS rules in the Report and Order to permit cable systems serving fewer than 5,000 subscribers to use an FCC-certified decoder, if such a device became available by October 1, 2002, in lieu of an encoder/decoder unit.

On July 23, 2002, the Commission staff granted an equipment authorization for an EAS decoder unit to equipment manufacturer TFT, Inc.

Accordingly, within one year of publication of this Public Notice in the Federal Register, LPFM station will be required to install certified EAS decoders. In addition, cable systems that serve fewer than 5,000 subscribers may comply with the Commission's requirement to install EAS equipment by October 1, 2002, by installing a certified EAS decoder, rather than both an encoder and a decoder.

Federal Communications Commission.
Marlene H. Dortch,
Secretary.

[FR Doc. 02-27093 Filed 10-23-02; 8:45 am]

BILLING CODE 6712-02-P